DEPARTMENT OF LABOR

Employment and Training Administration

[TA-W-57,009]

New Age Intimates, Inc., Long Island City, NY; Notice of Termination of Investigation

Pursuant to section 221 of the Trade Act of 1974, as amended, an investigation was initiated on April 19, 2005 in response to a petition filed by a company official on behalf of workers at New Age Intimates, Inc., Long Island City, New York.

The petitioner has requested that the petition be withdrawn. Consequently, the investigation has been terminated.

Signed at Washington, DC, this 24th day of May, 2005.
Elliott S. Kushner,
Certifying Officer, Division of Trade Adjustment Assistance.

[FR Doc. E5-2949 Filed 6-8-05; 8:45 am]

BILLING CODE 4510-30-P